SMALL BUSINESS ADMINISTRATION

Interagency Task Force on Veterans Small Business Development

AGENCY: U.S. Small Business Administration.

ACTION: Notice of open Federal Interagency Task Force Meeting.

SUMMARY: This document corrects the SBA's Interagency Task Force on Veterans Small Business Developments notice of a public meeting date.

The notice was in the Federal Register of April 10, 2013. This Correction provides the correct date for attending the meeting.

Correction

In the Federal Register of April 10, 2013, in FR Doc. 2013-08301, on page 214921, Volume 78, Number 69, correct the date section to read as follows:

DATES: Friday, May 10, 2013, from 9:00 a.m. to 12:00 Noon at the SBA Washington Area District Office Conference Room.

ADDRESSES: 740 15th Street NW., Suite 300, Washington, DC 20005.

SUPPLEMENTARY INFORMATION: Pursuant to section 10(a)(2) of the Federal Advisory Committee Act (5 U.S.C., Appendix 2), SBA announces the meeting of the Interagency Task Force on Veterans Small Business Development. The Task Force is established pursuant to Executive Order 13540 and focused on coordinating the efforts of Federal agencies to improve capital, business development opportunities and pre-established Federal contracting goals for small business concerns owned and controlled by veterans (VOB's) and service-disabled veterans (SDVOSB'S). Moreover, the Task Force shall coordinate administrative and regulatory activities and develop proposals relating to “three focus areas”: (1) Training, Counseling & Capital; (2) Federal Contracting & Verification; (3) Improved Federal Support.

On November 1, 2011, the Interagency Task Force on Veterans Small Business Development submitted its first report to the President, which included 18 Recommendations. In addition, the Task Force will allow time to obtain public comment from individuals and representatives of organizations regarding the areas of focus.

FOR FURTHER INFORMATION CONTACT: The meeting is open to the public, however, advance notice of attendance is requested. Anyone wishing to attend and/or make a presentation to the Task Force must contact Cheryl Simms, by April 26, 2013, by email in order to be placed on the agenda. Comments for the Record should be applicable to the “three focus areas” of the Task Force and emailed prior to the meeting for inclusion in the public record, verbal presentations; however, will be limited to five minutes in the interest of time and to accommodate as many presenters as possible. Written comments should be emailed to Cheryl Simms, Program Liaison, Office of Veterans Business Development, U.S. Small Business Administration, 409 3rd Street SW., Washington, DC 20416, at the email address for the Task Force, vetstaskforce@sba.gov. Additionally, if you need accommodations because of a disability or require additional information, please contact Cheryl Simms, Designated Federal Official for the Task Force at (202) 205-6773; or by email at: cheryl.simms@sba.gov. For more information, please visit our Web site at www.sba.gov/vets.

Dated: April 16, 2013.
Dan Jones,
SBA Committee Management Officer.

[FR Doc. 2013-09505 Filed 4-22-13; 8:45 am]

BILLING CODE P